DEPARTMENT OF COMMERCE

International Trade Administration

[A-570-964]

Seamless Refined Copper Pipe and Tube From the People's Republic of China: Preliminary Results and Partial Rescission of the Antidumping Duty Administrative Review; 2015-2016

AGENCY: Enforcement and Compliance, International Trade Administration, Department of Commerce.

SUMMARY: The Department of Commerce (the Department) preliminarily determines that the five remaining companies under review do not qualify for a separate rate and are, therefore, considered a part of the People's Republic of China (PRC)-Wide Entity for their exports of subject merchandise exported to the United States during the period of review (POR), November 1, 2015, through October 31, 2016. If these preliminary results are adopted in the final results, the Department will instruct U.S. Customs and Border Protection (CBP) to assess antidumping duties on all appropriate entries of subject merchandise during the POR. Interested parties are invited to comment on these preliminary results.

DATES: Applicable August 8, 2017.

FOR FURTHER INFORMATION CONTACT: Julia Hancock or Courtney Canales, AD/CVD Operations, Office V, Enforcement and Compliance, International Trade Administration, U.S. Department of Commerce, 1401 Constitution Avenue NW., Washington, DC 20230; telephone: (202) 482-1394 or (202) 482-4997, respectively.

SUPPLEMENTARY INFORMATION:

Background

On January 13, 2017, the Department published in the Federal Register the notice of initiation of an administrative review of the antidumping duty (AD) order on seamless refined copper pipe and tube (copper pipe) from the PRC for the period of review November 1, 2015, through October 31, 2016.¹ On January 18, 2017, Hong Kong Hailiang Metal Trading Limited (Hong Kong Hailiang), Shanghai Hailiang Copper Co., Ltd. (Shanghai Hailiang), and Zhejiang Hailiang Co., Ltd. (Zhejiang Hailiang) (collectively, Hailiang) notified the Department that the spelling of each company's name in the Initiation Notice was incorrect.² Accordingly, on February 13, 2017, the Department published in the Federal Register a revision of the notice of initiation of the 6th administrative review of the AD order due to a spelling error in certain companies' names.3 4 On February 24, 2017, Hailiang submitted a letter indicating it would not participate in the review.⁵ On March 14, 2017, the petitioners ⁶ timely withdrew their request for review with respect to 11 companies,⁷ but did not withdraw their request for review for the following five companies: China Hailiang Metal Trading (China Hailiang), Shanghai Hailiang Metal Trading Limited (Shanghai Hailiang Trading), Hong Kong Hailiang, Shanghai Hailiang, and Zhejiang Hailiang.⁸ Accordingly, these five companies remain under review.

¹ See Initiation of Antidumping and Countervailing Duty Administrative Reviews, 82 FR 4297 (January 13, 2017) (Initiation Notice).

² See Letter from Hailiang, “Correct Name of Hailiang: Administrative Review of the Antidumping Order on Seamless Refined Copper Pipe and Tube from the People's Republic of China,” dated January 18, 2017 (Hailiang's Correct Name Submission).

³ See Initiation of Antidumping and Countervailing Duty Reviews, 82 FR 10457 (February 13, 2017) (Revised Initiation Notice).

⁴ In the Revised Initiation Notice, the Department initiated on Hong Kong Hailiang Metal as the correct name identified in Hailiang's Correct Name Submission. However, in reviewing Hailiang's Correct Name Submission, the Department found that Hong Kong Hailiang Metal Trading Limited (Hong Kong Hailiang) was identified as the correct spelling for Hong Kong Hailiang. See Hailiang's Correct Name Submission at 1.

⁵ See Letter from Hailiang, “Hailiang Notice of Non-Participation in Review: Administrative Review of the Antidumping Duty Order on Seamless Refined Copper Pipe and Tube from the People's Republic of China,” dated February 24, 2017 (Hailiang Notice of Non-Participation Submission).

⁶ The petitioners are the Ad Hoc Coalition for Domestically Produced Seamless Refined Copper Pipe and Tube; and its individual members, Cerro Flow Products, LLC; Wieland Copper Products, LLC; Mueller Copper Tube Products, Inc.; and Mueller Copper Tube Company, Inc. (the petitioners).

⁷ These 11 companies are: Foshan Hua Hong Copper Tube Co., Ltd.; Golden Dragon Precise Copper Tube Group, Inc; Golden Dragon Holding (Hong Kong) International Co., Ltd.; Guilin Lijia Metals Co., Ltd.; Hong Kong GD Trading Co., Ltd.; Ningbo Jintian Copper Tube Co., Ltd.; Sinochem Ningbo Ltd.; Sinochem Ningbo Import & Export Co., Ltd.; Taicang City Jinxin Copper Tube Co., Ltd.; Zhejiang Jiahe Pipes Inc.; and Zhejiang Naile Copper Co., Ltd.

⁸ See Letter from the petitioners, “Seamless Refined Copper Pipe and Tube from China: Partial Withdrawal of Request for Administrative Review,” dated March 14, 2017.

Scope of the Order

The merchandise subject to the order is seamless refined copper pipe and tube. The product is currently classified under Harmonized Tariff Schedule of the United States (HTSUS) item numbers 7411.10.1030 and 7411.10.1090. Products subject to this order may also enter under HTSUS item numbers 7407.10.1500, 7419.99.5050, 8415.90.8065, and 8415.90.8085. Although the HTSUS numbers are provided for convenience and customs purposes, the written description of the scope of this order remains dispositive.⁹

⁹ For a full description of the scope of the Order, see Memorandum from Gary Taverman, Deputy Assistant Secretary for Antidumping and Countervailing Duty Operations, to Ronald K. Lorentzen, Acting Assistant Secretary for Enforcement and Compliance, “Seamless Refined Copper Pipe and Tube from the People's Republic of China: Decision Memorandum for the Preliminary Results of the 2015-2016 Antidumping Duty Administrative Review,” dated concurrently with, and hereby adopted by, this Federal Register notice (Preliminary Decision Memorandum).

Partial Rescission of Administrative Review

Pursuant to 19 CFR 351.213(d)(1), the Department will rescind an administrative review, in whole or in part, if the party or parties that requested a review withdraws the request within 90 days of the publication date of the notice of initiation of the requested review. As noted above, the petitioners withdrew their request for an administrative review with respect to 11 companies within 90 days of the publication date of the notice of initiation. No other parties requested an administrative review of the order with respect to these 11 companies. Therefore, in accordance with 19 CFR 351.213(d)(1), the Department is rescinding this review of the AD order on copper pipe from the PRC with respect to these companies.

Methodology

The Department is conducting this review in accordance with sections 751(a)(1)(B) and 751(a)(2)(A) of the Tariff Act of 1930, as amended (the Act). For a full description of the methodology underlying our preliminary conclusions, see the Preliminary Decision Memorandum. A list of topics included in the Preliminary Decision Memorandum is included as the Appendix to this notice.

The Preliminary Decision Memorandum is a public document and is on file electronically via Enforcement and Compliance's Antidumping and Countervailing Duty Centralized Electronic Service System (ACCESS). ACCESS is available to registered users at https://access.trade.gov, and to all parties in the Central Records Unit, room B8024 of the main Department of Commerce building. In addition, a complete version of the Preliminary Decision Memorandum can be accessed directly at http://enforcement.trade.gov/frn/. The signed and the electronic versions of the Preliminary Decision Memorandum are identical in content.

Preliminary Results of Review

The Department preliminarily determines that the five companies under review, China Hailiang, Hong Kong Hailiang, Shanghai Hailiang, and Zhejiang Hailiang, failed to demonstrate eligibility for a separate rate. In making our findings, two of the five companies, China Hailiang and Shanghai Hailiang Trading, did not submit no shipment letters or separate rate applications/certifications by the specified deadlines, and, as noted above, Hong Kong Hailiang, Shanghai Hailiang, and Zhejiang Hailiang, notified the Department that they would not be participating in this review and also did not submit no shipment letters or separate rate applications/certifications by the specified deadlines.¹⁰ Accordingly, these five companies did not demonstrate that they are each entitled to a separate rate. Thus, we consider all five companies to be part of the PRC-Wide Entity.¹¹ The rate previously established for the PRC-wide entity is 60.82 percent.¹²

¹¹ See Preliminary Decision Memorandum, at 4-5. Pursuant to the Department's change in practice, the Department no longer considers the NME entity as an exporter conditionally subject to administrative reviews. See Antidumping Proceedings: Announcement of Change in Department Practice for Respondent Selection in Antidumping Duty Proceedings and Conditional Review of the Nonmarket Economy Entity in NME Antidumping Duty Proceedings, 78 FR 65963, 65970 (November 4, 2013). Under this practice, the NME entity will not be under review unless a party specifically requests, or the Department self-initiates, a review of the entity. Because no party requested a review of the entity, the entity is not under review and the entity's rate is not subject to change.

¹² The rate for the PRC-Wide Entity was first assigned in the original investigation, see Seamless Refined Copper Pipe and Tube from the People's Republic of China: Final Determination of Sales at Less Than Fair Value, 75 FR 60725 (October 1, 2010). This rate has been used in each subsequent administrative review in which there was a party being considered as part of the PRC-Wide Entity.

Disclosure

Normally, the Department discloses to interested parties the calculations performed in connection with the preliminary results within five days of its public announcement or, if there is no public announcement, within five days of the date of publication of this notice in accordance with 19 CFR 351.224(b). However, because the Department preliminarily determined that the five remaining companies under review are part of the PRC-wide entity, there are no calculations to disclose.

Public Comment

Case briefs or other written comments may be submitted to the Assistant Secretary for Enforcement and Compliance no later than 50 days after the date of publication of these preliminary results, unless the Secretary alters the time limit.¹³ Rebuttal briefs, limited to issues raised in case briefs, may be submitted no later than five days after the deadline date for case briefs.¹⁴ Pursuant to 19 CFR 351.309(c)(2) and (d)(2), parties who submit case briefs or rebuttal briefs in this investigation are encouraged to submit with each argument: (1) A statement of the issue; (2) a brief summary of the argument; and (3) a table of authorities.

¹³ See 19 CFR 351.309(c); see also 19 CFR 351.303 (for general filing requirements).

¹⁴ See 19 CFR 351.309(d); see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, the Department intends to hold the hearing at the U.S. Department of Commerce, 1401 Constitution Avenue NW., Washington, DC 20230, at a time and date to be determined. Parties should confirm by telephone the date, time, and location of the hearing two days before the scheduled date.

The Department intends to issue the final results of this administrative review, which will include the results of our analysis of all issues raised in the case briefs, within 120 days of publication of these preliminary results in the Federal Register, pursuant to section 751(a)(3)(A) of the Act.

Assessment Rates

Upon issuance of the final results, the Department will determine, and CBP shall assess, antidumping duties on all appropriate entries covered by this review.¹⁵ The Department intends to issue assessment instructions to CBP 15 days after the publication date of the final results of this review.

¹⁵ See 19 CFR 351.212(b)(1).

For any individually examined respondent whose weighted average dumping margin is above de minimis (i.e., 0.50 percent) in the final results of this review, the Department will calculate importer-specific assessment rates on the basis of the ratio of the total amount of dumping calculated for the importer's examined sales to the total entered value of sales, in accordance with 19 CFR 351.212(b)(1). Where an importer- (or customer-) specific ad valorem rate is greater than de minimis, the Department will instruct CBP to collect the appropriate duties at the time of liquidation.¹⁶ Where either a respondent's weighted average dumping margin is zero or de minimis, or an importer- (or customer-) specific ad valorem is zero or de minimis, the Department will instruct CBP to liquidate appropriate entries without regard to antidumping duties.¹⁷

¹⁶ See 19 CFR 351.212(b)(1).

¹⁷ See 19 CFR 351.106(c)(2).

Cash Deposit Requirements

The following cash deposit requirements will be effective upon publication of the final results of this review for shipments of the subject merchandise from the PRC entered, or withdrawn from warehouse, for consumption on or after the publication date, as provided by sections 751(a)(2)(C) of the Act: (1) For the companies listed above that have a separate rate, the cash deposit rate will be that established in the final results of this review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

These preliminary results are issued and published in accordance with sections 751(a)(1) and 777(i)(1) of the Act.

Dated: August 2, 2017.
Carole Showers,
Executive Director, Office of Policy performing the duties of Deputy Assistant Secretary for Enforcement and Compliance.

Appendix

List of Topics Discussed in the Preliminary Decision Memorandum

I. Summary

II. Background

III. Scope of the Order

IV. Discussion of the Methodology

A. Partial Rescission

B. NME Country Status

C. Separate Rates

V. Recommendation

[FR Doc. 2017-16690 Filed 8-7-17; 8:45 am]

BILLING CODE 3510-DS-P